DEPARTMENT OF TRANSPORTATION

Pipeline and Hazardous Materials Safety Administration

Office of Hazardous Materials Safety; Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (October to November 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on November 13, 2012.
Donald Burger,
Chief, Special Permits and Approvals Branch.

S.P No. | Applicant | Regulation(s) | Nature of special permit thereof
MODIFICATION SPECIAL PERMIT GRANTED
11054-M | Welker Inc. Sugar Land, TX | 49 CFR 178.36 Subpart C | To modify the special permit to authorize the containment cylinder or salvage cylinder without the internal piston. | 14546-M | Linde Gas North America LLC Murray Hill, NJ | 49 CFR 180.209 | To modify the special permit to authorize an alternative testing procedures for requalifying cylinders.
3549-M | Sandia National Laboratories Albuquerque, NM | 49 CFR 172.101; 173.54; 173.56; 173.62 | To modify the special permit to authorize the transportation in commerce of additional Division 1.1 hazardous materials.
12396-M | National Aeronautics and Space Administration Washington, DC | 49 CFR 180.209 and 173.302a | To modify the special permit to authorize rail freight, cargo vessel, and passenger aircraft as additional modes of operation.
14808-M | Amtro Alfa Metalomecanica SA Portugal | 49 CFR 178.51(b), (f)(1) and (2) and (g) | To modify the special permit to authorize an additional 2.1 material.
15468-M | Prism Helicopters Inc. Wasilla, AK | 49 CFR 172.101 Column (9B) | To modify the special permit to authorize the transportation beyond the state of Alaska.
NEW SPECIAL PERMIT GRANTED
15334-N | Floating Pipeline Company Incorporated Halifax, Nova Scotia | 49 CFR 173.302a | To authorize the manufacture, marking, sale and use of 40′ GTM (gas transport module) Intermodal Shipping Containers designed based on ASME Section VIII, Division 3, 2010 Edition for composite reinforced pressure vessels permanently fitted within an ISO frame. (mode 1).
15558-N | 3M Company St. Paul, MN | 49 CFR 173.212, 172.302(a)(c) | To authorize the manufacture, marking, sale, and use of service motor vehicles for use in transporting a corrosive solid material in alternative packaging. (modes 1, 3).
15569-N | Vexxel Composites, LLC Brigham City, UT | 49 CFR 173.302a(a)(1), 175.3, and 180.205 | To authorize the manufacture, marking, sale, and use of non-DOT specification fully-wrapped carbon fiber reinforced seamless stainless steel lined cylinders that meets all requirements of ISO 11119-2 for use in transporting 2.2 materials. (modes 1, 2, 3, 4, 5).
15626-N | EC Source Aviation, LLC Mesa, AZ | 49 CFR 49 CFR Parts 172.101, Column (9b), 172.204(c)(3), 173.27(b)(2), 175.30(a)(1), 172.200, 172.300, and 172.400 | To authorize the transportation in commerce of certain hazardous materials by cargo aircraft including by external load in remote areas without being subject to hazard communication requirements and quantity limitations where no other means of transportation is available. (modes 3, 4).
15658-N | Xcel Energy Monticello, MN | 49 CFR 173.427(b)(1), 173.465(c), 173.465(d) | To authorize the transportation in commerce of certain Radioactive material in alternative packaging by highway. A copy of the environmental assessment can be located at http://www.regulations.gov/#!documentDetail;D=PHMSA-2012-0165-0002 (mode 1).
15642-N | Praxair Distribution, Inc. Danbury, CT | 49 180.205 and 180.209(a)(b), 180.213(b), and 180.213(f)(2) | To authorize the transportation in commerce of DOT Specification 3AL cylinders, cylinders manufactured under DOT-SP 12440, and ISO 7866 cylinders containing certain compressed gases when retested by a 100% ultrasonic examination in lieu of the internal visual and the hydrostatic retest. (modes 1, 2, 3, 4, 5).
EMERGENCY SPECIAL PERMIT GRANTED
15428-M | Space Exploration Technologies Corp. Hawthorne, CA | 49 CFR Part 172 and 173 | To modify the special permit to authorize additional Division 2.2 and Class 8 materials. (mode 1).
15729-N | Antonov Company, t/a Antonov Airlines Kiev, NH | 49 CFR § 172.101 Column (9B) | To authorize the one-time transportation in commerce of anhydrous ammonia in heat pipes which is forbidden for transportation by cargo only aircraft. (mode 4).
15748-N | Wal-Mart Stores, Inc. Bentonville, AR | 49 CFR part 172, part 173 and part 177 | To authorize the one-time, one-way transportation in commerce of certain hazardous materials from damaged or stucturally-impaired retail stores impacted by Hurricane Sandy to a temporary warehousing facility for approximately 10 miles by motor vehicle. (mode 1).
15751-N | Williams Gas Pipeline White Have, PA | 49 CFR 177.834(h), 178.700(c)(1) | To authorize the use of non-DOT specification metal refueling tanks containing Class 3 liquids and the on and off loading while the container remains on the truck. (mode 1).
15691-N | Department of Defense Scotts AFB, IL | 49 CFR 180.209 | To authorize the transportation in commerce of certain cylinders manufactured under DOT-SP 9421 and DOT-SP 9909 that are passed their test date for requalification. (modes 1, 2, 3, 4).
15752-N | Hurricane Sandy Response | 49 CFR 173.242 and Part 172 Subpart C, Subpart D, Subpart F and Subpart I | To authorize the transportation in commerce of certain hazardous materials in support of the recovery and relief in response to Hurricane Sandy. (mode 1).
15724-N | Honeywell FF & T, LLC Albuquerque, NM | 49 CFR 173.305(c) | To authorize the transportation in commerce of certain Division 2.2 gases in cylinders with openings not in the head or base of the cylinder. (mode 1) .
MODIFICATION SPECIAL PERMIT WITHDRAWN
14206-M | Digital Wave Corporation centennial, CO | 49 CFR 180.205 | To modify the special permit to authorize ISO 9809-2 cylinders be UE recertified.
13998-M | 3AL Testing Corp. Centennial, CO | 49 CFR 172.203(a); 172.302a(b)(2), (4)(5); 180.205(f)(g); 180.209(a),(b) (1)(iv) | To modify the special permit to authorize the ultrasonic examination of ISO 9809-2 cylinders, and the removal of Gulf Coast Hydrostatic Tests as an agent.
DENIED
14372-M | Request by Kidde Aerospace and Defense Wilson, NC October 22, 2012. To modify the special permit to add additional cylinders and to allow production markings to be obliterated as part of the retest of those cylinders.
12102-M | Request by EQ Industrial Services, Inc. Ypsilanti, MI October 4, 2012. To modify the special permit to authorize additional Class 1 materials authorized to be transported as Division 4.1.
15681-N | Request by Micronesian Aviation Corporation dba Americopters Saipan, MP October 16, 2012. To authorize the transportation in commerce of certain hazardous materials by Part 133 Rotorcraft External Load Operations, attached to or suspended from an aircraft, in remote areas of the US without meeting certain hazard communication and stowage requirements.
15686-N | Request by Smoky Mountain Helicopters, Inc. Hanapepe, HI October 16, 2012. To authorize the transportation in commerce of certain hazardous materials by 14 CFR Part 133 Rotorcraft External Load Operations transporting hazardous materials attached to or suspended from an aircraft, in remote areas of the US only, without being subject to hazard communication requirements, quantity limitations and certain loading and stowage requirements.
15718-N | Request by Siex Burgos, Spain, October 16, 2012. To authorize the transportation in commerce of Division 2.2 gases in non-DOT specification cylinders
15688-N | Request by Airborne Aviation Lihue, HI October 16, 2012. To authorize the transportation in commerce of certain hazardous materials by 14 CFR Part 133 Rotorcraft External Load Operations transporting hazardous materials attached to or suspended from an aircraft, in remote areas of the US only, without being subject to hazard communication requirements, quantity limitations and certain loading and stowage requirements.
12135-M | Request by Daicel Safety Systems, Inc. Hyogo Prefecture 671-1681, October 16, 2012. To modify the special permit to authorize a new design of non-DOT specification cylinders (pressure vessels) for use as components of automobile vehicle safety systems.

[FR Doc. 2012-28583 Filed 11-27-12; 8:45 am]

BILLING CODE 4909-60-M